DEPARTMENT OF THE TREASURY

Internal Revenue Service

Request for Nominations for Members of Public Advisory Committee; Internal Revenue Service Advisory Council (IRSAC)

AGENCY: Internal Revenue Service (IRS), Treasury.

ACTION: Notice.

SUMMARY: The Internal Revenue Service (IRS) is requesting nominations for members to serve on the Internal Revenue Service Advisory Council (IRSAC). Nominations will be accepted for current vacancies and vacancies that will or may occur during the next 12 months. To ensure appropriate balance of membership, final selection from among qualified candidates will be determined based on experience, qualifications, and other expertise.

DUE DATE: July 31, 2000.

ADDRESSES: Send all applications to—Merci del Toro, Office of Public Liaison and Small Business Affairs, CL:PL, Room 7559 IR, 1111 Constitution Avenue, NW, Washington, DC 20224, Fax: 202-622-5886, E-mail: *public_liaison@irs.gov. The application package will be uploaded to the IRS web site with fill in the blank capabilities at the following addresses: Tax Professionals Corner—

http://www.irs.ustreas.gov/prod/bus_info/tax_pro/index.html; and the Small Business Corner—http://www.irs.ustreas.gov/prod/bus_info/sm_bus/index.html.

FOR FURTHER INFORMATION CONTACT: Lorenza Wilds, Telephone: 202-622-6440, not a toll-free number.

SUPPLEMENTARY INFORMATION: IRS is requesting nominations for members to serve on the advisory committee listed below.

Internal Revenue Service Advisory Council (IRSAC)

The IRSAC provides an organized public forum for discussion of relevant tax administration issues between IRS officials and representatives of the public. Through the years, IRSAC has focused on broad tax administration policy matters. Various groups have suggested operational improvements, offered constructive observations about IRS' current or proposed policies, programs, and procedures, and advised the Commissioner of Internal Revenue on particular issues having substantive effect on Federal Tax Administration. It is important that IRSAC membership continue to represent the range and make-up of broad and diverse taxpayer and stakeholder base.

Criteria for Members

Applicants shall be well-rounded, with a strong tax or business background and excellent communications skills, bring years of practical experience and knowledge to the group, and able to interact well in a diversified environment. Applicant's background should include several of the following experiences: applying tax law knowledge in the resolution of complex tax issues; developing and implementing customer service initiatives and tools, systems management and improvement, and change management; advising and/or as business owners and entrepreneurs; those who have established successful strategic partnerships; and, those who have the ability to examine situations from a “macro” viewpoint.

Nomination Procedures

Interested persons may nominate themselves and/or one or more qualified persons for membership on the IRSAC. Application packages are available on the IRS' Internet Site, on the Tax Professionals Corner—

http://www.irs.ustreas.gov/prod/bus_info/tax_pro/index.html

or

the Small Business Corner—

http://www.irs.ustreas.gov/prod/bus_info/sm_bus/index.html.

Applicants may also request an application package by calling Lorenza Wilds at 202-622-6440 (not a toll-free number). Federal income tax, FBI, and practitioner checks (if applicable), are required of all applicants. This notice is issued under the Federal Advisory Committee Act (5 U.S.C. app. 2) and 21 CFR part 14, relating to advisory committees.

Dated: June 6, 2000.
Susanne D. Sottile,
National Director, Public Liaison and Small Business Affairs, Designated Federal Official, IRS Advisory Council.

[FR Doc. 00-16416 Filed 6-28-00; 8:45 am]

BILLING CODE 4830-01-P